DEPARTMENT OF EDUCATION

34 CFR Chapter III

[Docket ID ED-2020-OSERS-0192]

Final Priority—Rehabilitation Short-Term Training: Client Assistance Program

AGENCY: Office of Special Education and Rehabilitative Services (OSERS), Department of Education.

ACTION: Final priority.

SUMMARY: The Department of Education (Department) announces a priority under the Rehabilitation Short-Term Training program, Assistance Listing Number 84.246K. We take this action to improve the capacity of Client Assistance Program (CAP) professionals to inform, assist, and advocate for clients and client applicants about expanded education, training, and competitive integrated employment opportunities available through the State Vocational Rehabilitation Services program, and about the benefits and services available through other programs authorized by the Rehabilitation Act of 1973 (Rehabilitation Act), as amended by the Workforce Innovation and Opportunity Act (WIOA). We may use this priority for competitions in Federal fiscal year (FFY) 2021 and later years. The priority will provide enhanced training and technical assistance on CAP duties and responsibilities under section 112 of the Rehabilitation Act, State Vocational Rehabilitation (VR) service provision requirements and other benefits and services under the Rehabilitation Act, expanded opportunities under WIOA, individual and systems advocacy competencies, and leadership, relationship-building, and outreach skills as well as CAP strategic planning and resources management capacity-building. Also, the priority will promote the use of flexible training delivery methods, including in-person and virtual activities, and state-of-the-art communication tools and platforms, including the latest distance learning and convening technologies.

DATES: This priority is effective July 23, 2021.

FOR FURTHER INFORMATION CONTACT: Felipe Lulli, U.S. Department of Education, 400 Maryland Avenue SW, Room 5101, Potomac Center Plaza, Washington, DC 20202-2800. Telephone: (202) 245-7425. Email: 84.246K@ed.gov.

If you use a telecommunications device for the deaf (TDD) or a text telephone (TTY), call the Federal Relay Service (FRS), toll free, at 1-800-877-8339.

SUPPLEMENTARY INFORMATION:

Purpose of Program: The Rehabilitation Short-Term Training program is designed to provide short-term training and technical instruction in areas of special significance to the vocational, medical, social, and psychological rehabilitation programs, supported employment program, independent living services programs, and Client Assistance Program, including special seminars, institutes, workshops, and other short-term courses. Short-term training projects may be of regional or national scope.

Program Authority: 29 U.S.C. 772(a)(1).

Applicable Program Regulations: 34 CFR parts 385 and 390.

We published a notice of proposed priority (NPP) for this competition in the Federal Register on February 19, 2021 (86 FR 10213). The NPP contained background information and our reasons for proposing the priority.

Editorial and technical revisions are explained in the discussion of comments that follow.

Public Comment: In response to our invitation in the NPP, 23 parties submitted comments on the proposed priority.

We group major issues according to subject. Generally, we do not address technical and other minor changes or suggested changes the law does not authorize us to make. In addition, we do not address general comments that raise concerns not directly related to the proposed priority.

Analysis of Comments and Changes: An analysis of the comments and of any changes in the priority since publication of the NPP follows.

State VR/CAP Coordination and Communication

Comment: Several commenters addressed the priority's requirement that, in providing training and technical assistance, the grantee considers the challenges that State VR agencies face in implementing WIOA's expanded VR services provisions. These commenters expressed the concern that the priority's emphasis on VR agency challenges would have the effect of “shielding” the agency from its statutory responsibility to provide quality and timely VR services in accordance with the Rehabilitation Act. These commenters indicated that CAPs also face similar challenges and argue that any consideration of WIOA implementation challenges should encompass both perspectives.

Conversely, some commenters cited several VR agency challenges and limitations—financial and non-financial—beyond those referenced in the NPP and about which, these commenters believe, CAPs may not be sufficiently aware. These commenters cited, as examples, issues related to the Rehabilitation Act-Individuals with Disabilities Education Act coordination in the delivery of pre-employment transition services; the Rehabilitation Act's maintenance of effort requirements; and parameters set by the States' written policies governing the nature and scope of VR services and the Uniform Administrative Requirements, Cost Principles, and Audit Requirements (2 CFR part 200), among others. The commenters recommended greater emphasis on improving communication between the CAPs and the State VR agencies to promote mutual understanding about their distinct roles, approaches, and perspectives; more training about the impact of Federal and State statutes, regulations, and policies on the delivery of VR services in the States; and closer coordination between the CAPs and the State VR agencies on both individual cases and statewide initiatives to improve competitive integrated employment outcomes for VR clients and applicants. Additionally, one commenter recommended that the comprehensive needs assessment questionnaires, surveys, or focus group include broader input from VR agencies and the State Rehabilitation Councils (SRCs).

Discussion: The Department agrees that the priority's references to VR agency challenges should not be interpreted as a dispensation from the VR program requirements in the Rehabilitation Act, as amended by WIOA. The Department also agrees that VR clients and applicants would be well served by increased coordination, communication, and cross-training between CAPs and VR agencies. The priority includes several provisions that promote such coordination, communication, and training. Required training topics include the obstacles faced by individuals represented by the CAPs and the challenges faced by VR agencies; the roles of SRCs, workforce development partners, and other key VR stakeholders; leadership, relationship-building, and outreach skills for CAP professionals; strategic assessments of VR program challenges, needs, and opportunities based on the CAPs; and strategic engagement with State VR agencies, SRCs, and other stakeholders in response to such assessments. In addition, the NPP requires that CAP training and technical assistance be based on a comprehensive needs assessment that considers the needs of CAP professionals and individuals with disabilities in the context of VR program challenges, needs, and opportunities.

We are revising the priority to further emphasize CAP coordination and communication with the stated purpose of improving VR service delivery and, thus, competitive integrated employment outcomes for VR clients and applicants.

Changes: The Department added language encouraging greater communication, coordination, cross-training, and feedback between the CAP and the State VR agencies, SRCs, workforce partners, and other programs and services available under the Rehabilitation Act in the priority's introductory paragraphs; in required topic areas (a)(1)(iv) and (vi) and (a)(3)(i) and (iii); and in the comprehensive needs assessment section. Also, we added a reference to the CAP's participation in the SRC under the CAP duties and responsibilities required topic area.

Policy Analysis

Comment: One commenter suggested that policy analysis is an additional area that needs to be addressed in the CAP Training priority. The commenter points out that, under section 101(a)(16)(A) and (B) of the Rehabilitation Act, the designated State agency is required to actively consult with the CAP prior to the adoption of any policies or procedures governing the provision of VR services under the State plan, or amendments thereof, and to consider the views of the CAP director in matters of general policy arising in the administration of the plan.

Discussion: The Department agrees that CAP professionals must develop the expertise necessary to advise State designated agencies on proposed policies and procedures governing the provision of VR services, consistent with section 101(a)(16)(A) and (B)(iv) of the Rehabilitation Act. The NPP supports the development of such expertise by requiring CAP training on the service provision requirements in the Rehabilitation Act and its regulations, policy guidance, and legal decisions, including those related to section 113 on pre-employment transition services and section 511 regarding limitations on use of subminimum wage. We are revising the priority to further foster and facilitate meaningful CAP input on policies or procedures governing the provision of VR services before they are adopted by the State designated agency, consistent with the Rehabilitation Act. The final priority's new provisions on coordination and communication discussed above should also foster favorable conditions for the CAPs to provide input on proposed VR service provision policies and procedures.

Changes: The Department added a reference to section 101(a)(16) under the final priority's required topic area on CAP duties and responsibilities.

Dispute Resolution Between CAPs and State VR Agencies

Comment: One commenter stated that the priority should encourage CAPs and State VR agencies to resolve disputes at the lowest level of intervention possible to minimize the need for litigation and maximize the amount of Federal funds available for the provision of VR services that individuals need to obtain their employment goals under the Rehabilitation Act.

Discussion: The Department agrees that the priority should encourage CAPs to resolve disputes at the lowest level possible. Accordingly, alternate dispute resolution is one of the required training topic areas under this priority. Also, the notice inviting applications published elsewhere in this issue of the Federal Register includes two pertinent Government Performance and Results Act (GPRA) performance measures: Number and percentage of individual cases resolved through alternative dispute resolution and number of non-litigation systemic activities not involving individual representation that resulted in the change of one or more policies or practices of an agency. Moreover, we expect that the priority's provisions regarding coordination and communication between CAPs, State VR agencies, and other programs within the scope of CAP will help create an environment favorable to non-litigation dispute resolution activities and outcomes.

Changes: None.

CAP Training Nature and Scope

Comment: One commenter raised the question of whether the CAP Training priority's purview extends beyond the VR services outlined in Title I of the Rehabilitation Act, as amended by WIOA. The commenter notes that section 112(a) extends the CAP program's role to all the projects, programs, and services provided under the Rehabilitation Act, including independent living.

Discussion: The Department agrees that, under section 112(a) of the Rehabilitation Act, CAPs are responsible for informing, assisting, advising, and advocating for projects, programs, and services under the Rehabilitation Act beyond VR, including the independent living programs. In response, the priority has been revised to ensure consistency with Section 112(a) of the Rehabilitation Act.

Changes: The Department incorporated throughout the priority references to other projects, programs, and services provided by the Rehabilitation Act, in addition to the priority's original references to the VR program.

Comment: One commenter expressed support for the priority's provisions regarding CAP Training coordination with the Rehabilitation Services Administration (RSA) VR technical assistance centers. Also, the commenter recommended further integration with the technical assistance centers through the CAP Training grantee's participation in the Intensive Technical Assistance (ITA) agreements established between the technical assistance centers and participating State VR agencies. The commenter also recommended that the CAP Training grantee join the Technical Assistance Center Collaborative that convenes monthly to coordinate delivery of the centers' technical assistance to the VR agencies.

Discussion: The Department agrees with the importance of coordination between the CAP Training program and the RSA VR technical assistance centers. Accordingly, the priority requires the coordination and leveraging of resources between the CAP Training grantee and the technical assistance centers. Towards that end, we will encourage the CAP Training grantee to attend the Technical Assistance Center Collaborative meetings. However, it is not feasible or appropriate for the CAP Training grantee to participate directly in the ITA agreements. CAP Training activities do not constitute ITA, as defined in the technical assistance centers' final priority. Under the priority, CAP training is available primarily to individual CAP professionals nationwide, whereas technical assistance to CAPs in individual States are available on a short-term, issue-specific basis only. The CAP Training grantee will be able to learn about the ITA agreements through its participation in the Technical Assistance Center Collaborative. Participation in the collaborative may also offer opportunities for short-term collaborative opportunities between CAP Training and the technical assistance centers in individual States.

Changes: None.

Funding Needs

Comment: Several commenters noted that the priority's increased focus on strategic planning and resource management would require increased funding relative to that under the prior priority.

Discussion: The funding level established in the notice inviting applications published elsewhere in this issue of the Federal Register for the FFY 2021 competition reflects the Department's recognition of the funding needs associated with the increased focus on strategic planning and resource management capacity-building and other aspects of this priority.

Changes: None.

Access to State Plans and Program Reports

Comment: Several commenters questioned whether the grantee would have the necessary access to Unified or Combined State Plans, State monitoring reports, Annual Client Assistance Program Reports (RSA-227), and input from VR clients.

Discussion: The approved Unified and Combined State plans can be found at https://wioaplans.ed.gov/. The State monitoring reports, RSA-227, State VR annual reports, and other pertinent information resources are currently available on the RSA's upgraded information management system, at rsa.ed.gov. The Department expects that these information resources will be used for two broad purposes under this priority: A comprehensive needs assessment that the grantee will conduct at the national level and the strategic planning activities that individual CAPs will conduct at the State level. RSA will provide the CAP Training grantee with technical assistance to access State Plans, RSA-227s, State monitoring reports, and other pertinent resources for its comprehensive needs assessment. In turn, the CAP Training grantee is expected to help individual CAPs to access and analyze these resources and to gather and assess input from VR clients and other key stakeholders as part of their strategic planning activities.

Changes: None.

FINAL PRIORITY:

Rehabilitation Short-Term Training—Client Assistance Program (CAP Training).

This CAP Training priority is designed to provide CAP professionals the necessary knowledge, competencies, and skills to inform, assist, and advocate for clients and client-applicants regarding expanded education, training, and competitive integrated employment opportunities and other services and benefits available under the Rehabilitation Act of 1973, as amended by WIOA.

Under this priority, the grantee must provide comprehensive and in-depth training and technical assistance activities that provide updated information about CAP duties and responsibilities under the Rehabilitation Act; expanded VR service provisions in the Rehabilitation Act, including section 113 on pre-employment transition services and section 511 regarding limitations on use of subminimum wage; and on other education, training, and employment opportunities under WIOA, including career pathways, apprenticeships, and customized employment. The training and technical assistance must enhance CAP professionals' individual and systems advocacy competencies and their leadership, relationship-building, and outreach skills. In addition, the training and technical assistance must strengthen the institutional effectiveness of the CAPs in the individual States through strategic planning and resource management capacity-building activities. In providing the training and technical assistance, the grantee must consider the challenges and opportunities experienced by the VR program and other programs authorized under the Rehabilitation Act, as amended by WIOA, and encourage greater communication and coordination between the CAPs and those programs.

Under this priority, the Secretary funds only applications that meet the project requirements outlined below. Applicants must describe major implementation activities, timelines, and milestones for each of the following project requirements:

(a) Training and technical assistance to increase CAP professionals' knowledge, skills, and competencies in the four broad subject areas and related topics:

(1) The Rehabilitation Act, as amended by WIOA, including—

(i) CAP duties and responsibilities under section 112(a) of the Rehabilitation Act and other pertinent provisions including section 101(a)(16) regarding CAP consultation on draft policies and procedures governing the provision of VR services and section 105(b) regarding CAP membership on the SRC;

(ii) VR service provision requirements in the Rehabilitation Act and its regulations, policy guidance, and legal decisions, including those regarding section 113 on pre-employment transition services and section 511 regarding limitations on use of subminimum wage;

(iii) Requirements related to other projects, programs, and services under the Rehabilitation Act, as amended by WIOA, including the independent living programs authorized in Title VII;

(iv) Expanded training, education, and employment opportunities under WIOA, including but not limited to the provision of pre-employment transition services, apprenticeships, customized employment, career pathways, and the focus on postsecondary credential attainment, including advanced degrees;

(v) Challenges and opportunities in implementing the expanded VR service provisions and other benefits available under the Rehabilitation Act, as amended by WIOA, including consideration of Federal and State statutes, regulations, and policies that impact the delivery of VR services in the States, such as the transition services provisions of the Individuals with Disabilities Education Act;

(vi) Obstacles that individuals with disabilities—including individuals with the most significant disabilities, students and youth with disabilities, members of traditionally unserved or underserved groups, and individuals in economically disadvantaged communities—experience in accessing VR services and other services and benefits under the Rehabilitation Act; and

(vii) The complementary roles of CAPs, State VR agencies, SRCs, community rehabilitation programs, WIOA core partners, and key stakeholders of the VR program and other services and programs authorized by the Rehabilitation Act, as amended by WIOA.

(2) Discrete skills related to CAP duties and responsibilities, including—

(i) Individual advocacy;

(ii) Systems advocacy;

(iii) Alternate dispute resolution; and

(iv) Leadership, relationship-building, and outreach.

(3) Strategic planning, including—

(i) Assessments of the State's program priorities, challenges, needs, and opportunities in implementing the expanded VR program provisions and other benefits and services under the Rehabilitation Act, as amended by WIOA. Strategic assessments may include targeted reviews of the Unified or Combined State Plans, monitoring reports, Annual Client Assistance Program Report (RSA-227), other State Plans and reports, and input from agency leadership and staff, SRC members, clients, applicants, and other key stakeholders;

(ii) Development of the individual CAPs' strategic goals and action plans (including their particular training or technical assistance needs), based on identified program priorities, challenges, needs, and opportunities; and

(iii) Strategic outreach and engagement with State VR agencies, SRCs, and other stakeholders associated with the programs and services authorized under the Rehabilitation Act to increase collaboration in support of improved service delivery and outcomes in the State.

(4) Resource management, including—

(i) Budgeting and financial oversight practices in support of strategic goals and objectives, consistent with Generally Accepted Accounting Practices; and

(ii) Uniform Administrative Requirements, Cost Principles, and Audit Requirements for Federal Awards, at 2 CFR part 200, pertinent to CAP and VR program operations.

(b) Comprehensive plan for the provision of training and technical assistance on the required subject areas and topics, based on a comprehensive assessment of CAP professionals' needs. The training and technical assistance plan must describe the following:

(1) Subject areas and topics, specifically, how they will be prioritized and made available in the initial year and subsequent years of the project;

(2) Training activities, consisting of both established training modules and ad hoc training responsive to emerging circumstances or trends;

(3) Technical assistance, consisting of individualized assistance on applying principles and practices from training on the required subject areas and topics, as well as consultation on options for applying existing law, regulations, and RSA-issued guidance to specific factual circumstances that arise in the course of CAP professionals' individual or systems advocacy efforts;

(4) Training and technical assistance curricula, materials, and tools, which may incorporate the resources developed by current and former RSA VR technical assistance centers and demonstration projects, available at the National Clearinghouse of Rehabilitation Training Materials;

(5) Information delivery methods, including in-person and virtual activities, communities of practice, social media, and searchable databases; and

(6) State-of-the-art communication tools and platforms, including an interactive project website, distance learning and convening technologies, and searchable databases.

The comprehensive needs assessment may comprise selective reviews, on a national basis, of RSA-227s, Unified or Combined State Plans, RSA State monitoring reports, other State Plans and reports, and input from CAP professionals and key stakeholders, including VR agency and SRC representatives.

(c) Quality control processes to ensure that training and technical assistance activities and materials are updated to reflect the statutory and regulatory changes in the Rehabilitation Act, as amended by WIOA, the RSA policy guidance updates, and future reauthorizations of the Rehabilitation Act.

(d) Coordination with and leveraging the resources of RSA's vocational rehabilitation technical assistance centers and other Federal or non-Federal programs, including the National Technical Assistance Center on Transition and the recently funded RSA technical assistance centers on Quality Employment and Quality Management in the development and delivery of CAP Training project activities, curriculum, materials, and tools.

(e) Coordination with the entity providing training and technical assistance to the Protection and Advocacy of Individual Rights program, consistent with section 509 of the Rehabilitation Act.

(f) Comprehensive evaluation plan based on performance measures established in the notice inviting applications, consistent with the Government Performance and Results Act.

CAP Training performance will be assessed based on the following considerations:

(a) Increased capacity to provide individual and systems advocacy, alternative dispute resolution, and outreach to unserved or underserved populations, as reported by the CAP professionals.

(b) Trends in pertinent CAP services, including individual and systems advocacy.

(c) Relationship between the observed CAP services trends and the training and technical assistance provided under this priority.

The performance evaluation will be based on a variety of quantitative and qualitative data sources, including, but not limited to:

(a) RSA-227;

(b) Pre- and post-training assessments;

(c) Questionnaires, surveys, and focus groups;

(d) Success stories; and

(e) Peer reviews.

The evaluation plan must include a logic model that outlines the proposed project activities, outputs, outcomes, baselines, and targets. The plan also must describe how the evaluation results will be used to promote continuous program improvement throughout the grant's period of performance.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This document does not preclude us from proposing additional priorities, requirements, definitions, or selection criteria, subject to meeting applicable rulemaking requirements.

Note: This document does not solicit applications. In any year in which we choose to use this priority, we invite applications through a notice in the Federal Register.

Executive Orders 12866 and 13563

Regulatory Impact Analysis

Under Executive Order 12866, the Office of Management and Budget (OMB) must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3 (f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that the benefits will justify the costs. In choosing among alternative regulatory approaches, we selected those approaches that maximize net benefits. Based on the analysis that follows, the Department believes that this regulatory action is consistent with the principles in Executive Order 13563.

We have also determined that this regulatory action will not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities. The costs will include the time and effort in responding to the priority for entities that choose to respond. Potential benefits include increased access to the educational, training, and competitive integrated employment opportunities under the Rehabilitation Act, as amended by WIOA, for individuals with disabilities, through improved CAP professional development and institutional capacity nationwide.

Intergovernmental Review: This program is subject to Executive Order 12372 and the regulations in 34 CFR part 79. One of the objectives of the Executive order is to foster an intergovernmental partnership and a strengthened federalism. The Executive order relies on processes developed by State and local governments for coordination and review of Federal financial assistance.

This document provides early notification of our specific plans and actions for this program.

Regulatory Flexibility Act Certification: The Secretary certifies that this final regulatory action will not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

The small entities that this final regulatory action will affect are States and public or private nonprofit agencies and organizations, including Indian Tribes and institutions of higher education, which are the eligible applicants for this program. We believe that the costs imposed on an applicant by the final priority are limited to the paperwork burden related to preparing an application and that the benefits of the final priority will outweigh any costs incurred by the applicant. There are very few entities that could provide the type of technical assistance required under the final priority. For these reasons, the final priority will not impose a burden on a significant number of small entities.

Paperwork Reduction Act of 1995: The priority contains information collection requirements that are approved by OMB under OMB control number 1820-0018; the priority does not affect the currently approved data collection.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs, delegated the authority to perform the functions and duties of the Assistant Secretary for the Office of Special Education and Rehabilitative Services.

[FR Doc. 2021-13191 Filed 6-17-21; 4:15 pm]

BILLING CODE 4000-01-P